DEPARTMENT OF THE INTERIOR

Fish and Wildlife Service

[FWS—R9-IA-2008-N0220; 96300-1671-0000-P5]

Receipt of Applications for Permit

AGENCY: Fish and Wildlife Service, Interior.

ACTION: Notice of receipt of applications for permit.

SUMMARY: The public is invited to comment on the following applications to conduct certain activities with endangered species.

DATES: Written data, comments or requests must be received by October 30, 2008.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 212, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq. ). Written data, comments, or requests for copies of these complete applications should be submitted to the Director (address above).

Applicant: University of Illinois Veterinary Diagnostic Laboratory, Maywood, IL, PRT-187330.

The applicant requests a permit to import biological specimens taken worldwide from dead wild and captive-held threatened and endangered species of Canidae (wolves, foxes, dholes and wild dogs), Hyaenidae (hyaenas), Felidae (cats), and Mustelidae (otters, not including marine and sea otters) for the purpose of enhancement of the survival of the species through disease and death investigations. This notification covers activities to be conducted by the applicant over a five-year period.

Applicant: Florida Museum of Natural History, Gainesville, FL, PRT-677336.

The applicant requests renewal of their permit to import, export, and re-export non-living museum specimens of endangered and threatened species of plants and animals previously accessioned into the applicant's collection for scientific research. This notification covers activities to be conducted by the applicant over a five-year period.

Applicant: El Paso Zoo, El Paso, TX, PRT-191094.

The applicant requests a permit to export one female captive-born Malayan tapir (Tapirus indicus) to Africam Safari, Mexico for the purpose of enhancement of the species through captive breeding and conservation education.

Applicant: Captive-bred Wildlife Foundation, Portal, AZ, PRT-191393.

The applicant requests a permit to export 6 captive hatched Galapagos tortoises (Chelonoidis nigra) to Edward Cham, Ouezon City, Philippines for the purpose of enhancement of the survival of the species.

Applicant: David W. Nesbit, Gonzales, TX, PRT-189408.

The applicant requests a permit authorizing take, interstate and foreign commerce of swamp deer (Rucervus duvaucelii), from his captive herd for the purpose of enhancement of the survival of the species. This notification covers activities conducted by the applicant over a five-year period.

Applicant: David E. Robinson, Rancho Sante Fe, CA, PRT-162422.

The applicant requests a permit to import the sport-hunted trophy of one male bontebok (Damaliscus pygargus pygargus) culled from a captive herd maintained under the management program of the Republic of South Africa, for the purpose of enhancement of the survival of the species.

Applicant: Aymer L. Curtin, Gainsville, FL, PRT-170073.

The applicant requests a permit to import the sport-hunted trophy of one male bontebok (Damaliscus pygargus pygargus) culled from a captive herd maintained under the management program of the Republic of South Africa, for the purpose of enhancement of the survival of the species.

Applicant: Christopher J. Reinesch, Gilbert, AZ, PRT-185764.

The applicant requests a permit to import the sport-hunted trophy of one male bontebok (Damaliscus pygargus pygargus) culled from a captive herd maintained under the management program of the Republic of South Africa, for the purpose of enhancement of the survival of the species.

Applicant: Thomas D. Lund, Gardnerville, NV, PRT-185974.

The applicant requests a permit to import the sport-hunted trophy of one male bontebok (Damaliscus pygargus pygargus) culled from a captive herd maintained under the management program of the Republic of South Africa, for the purpose of enhancement of the survival of the species.

Applicant: Brook F. Minx, Houston, TX, PRT-185959.

The applicant requests a permit to import the sport-hunted trophy of one male bontebok (Damaliscus pygargus pygargus) culled from a captive herd maintained under the management program of the Republic of South Africa, for the purpose of enhancement of the survival of the species.

Applicant: Patricia A. Pilia, Longmont, PRT-190199.

The applicant requests a permit to import the sport-hunted trophy of one male bontebok (Damaliscus pygargus pygargus) culled from a captive herd maintained under the management program of the Republic of South Africa, for the purpose of enhancement of the survival of the species.

Dated: August 8, 2008.
Michael L. Carpenter,
Senior Permit Biologist, Branch of Permits, Division of Management Authority.

[FR Doc. E8-22973 Filed 9-29-08; 8:45 am]

BILLING CODE 4310-55-P